DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 30, 2001.

Interested persons are invited to submit written comments regarding the subject matter of the investigations to the Director, Division of Trade Adjustment Assistance, at the address shown below, not later than April 30, 2001.

The petitions filed in this case are available for inspection at the Office of the Director, Division of Trade Adjustment Assistance, Employment and Training Administration, U.S. Department of Labor, Room C-5311, 200 Constitution Avenue, NW., Washington, DC 20210.

Signed at Washington, DC this 26th day of March, 2001.
Edward A. Tomchick,
Director, Division of Trade Adjustment Assistance.

Appendix_Petitions Instituted on 03/26/2001

TA-W | Subject firm (petitioners) | Location | Date of petition | Product(s)
38,886 | AGP, LC (PACE) | Sherman, TX | 03/07/2001 | Bulk Edible Oil.
38,887 | Schlage Lock Co. (Co.) | San Jose, CA | 03/08/2001 | Locks.
38,888 | Geneval Steel (USWA) | Provo, UT | 03/07/2001 | Hot Rolled Plate.
38,889 | Elk Creek Raycarl Product (Co.) | Elk Creek, VA | 02/26/2001 | Cold Headed Piston Pins.
38,890 | Erie Forge and Steel (Wkrs) | Erie, PA | 03/08/2001 | Custom Die Steel Forgings.
38,891 | Pelton Casteel (Wkrs) | Milwaukee, WI | 03/08/2001 | Steel Castings.
38,892 | Crest Uniform Co. (Co.) | New York City, NY | 01/12/2001 | Medical Uniforms.
38,893 | Budd Company (The) (Wkrs) | Philadelphia, PA | 03/02/2001 | Automotive Parts.
38,894 | Hoffman New Yorker (Wkrs) | Dushore, PA | 03/07/2001 | Garment Equipment and Dry Cleaning.
38,895 | L'Koral, Inc. (Wkrs) | Vernon, CA | 02/14/2001 | Double and Single Knot Materials.
38,896 | Vaagen Bros Lumber (Wkrs) | Colville, WA | 03/07/2001 | Processed Lumber.
38,897 | J.E. Morgan Knitting Mills (Co.) | Tamaqua, PA | 03/07/2001 | Thermal Underwear.
38,898 | LTV Steel Mining Co. (Wkrs) | Hoyt Lakes, MN | 01/23/2001 | Taconite Pellets.
38,899 | Federal Mogul (GMP) | Malden, MO | 03/02/2001 | Pistons.
38,900 | Borg Warner Air (Wkrs) | Water Valley, MS | 03/06/2001 | Transmission Control Solenoids.
38,901 | Moose River Lumber (Wkrs) | Moose River, ME | 03/14/2001 | Softwood Dimensional Lumber.
38,902 | Troy Design, Inc. (Wkrs) | Lansing, MI | 03/06/2001 | Design and Engineering Services.
38,903 | United Design Corporation (Co.) | Noble, OK | 03/05/2001 | Giftware—Figurines, Collectibles.
38,904 | Schott Corporation (Wkrs) | Marshall, MN | 03/06/2001 | Magnetic Transformers.
38,905 | Nikki Knit (Wkrs) | Goldsboro, NC | 03/12/2001 | Children's Clothes.
38,906 | O and P Tailor, Inc. (Co.) | Tellico Plains, TN | 03/12/2001 | Garments.
38,907 | Bayer Clothing Group (Wkrs) | New York, NY | 03/13/2001 | Men's Suits and Slacks.
38,908 | Electronic Circuits (Co.) | Sebring, OH | 03/03/2001 | Printed Wiring Board.
38,909 | Dorsey Trailers (Wkrs) | Elba, AL | 03/08/2001 | Over the Road Trailers.
38,910 | Metaldyne (Wkrs) | Ridgway, PA | 03/09/2001 | Connecting Rods, Bearing Caps.
38,911 | ITT Industries (USWA) | Cheektowitga, NY | 02/20/2001 | Heating Exchange, Castings.
38,912 | Co Steel Raritan (Co.) | Perth Amboy, NJ | 03/12/2001 | Steel.
38,913 | Littelfuse, Inc. (Wkrs) | Centralia, IL | 03/11/2001 | Pico Fuses.
38,914 | Bloomsburg Mills (Co.) | Bloomsburg, PA | 03/15/2001 | Ladies' Apparel.
38,915 | Verson Press (UAW) | Chicago, IL | 03/12/2001 | Stamping Presses.
38,916 | Levolor Home Fashions (Co.) | Rockaway, NJ | 03/16/2001 | Custom Window Blinds, Roller Shades.
38,917 | Meade Industrial Services (Co.) | Boardman, OH | 03/13/2001 | Electro-Lifting Magnets.
38,918 | Bakka (Co.) | El Paso, TX | 03/13/2001 | Sports Clothing.
38,919 | Battle Mountain Gold (Wkrs) | Sparks, NV | 03/08/2001 | Gold and Silver Ore.
38,920 | Color Edge (Wkrs) | Sturgis, MI | 03/12/2001 | Plastic Extrusions.
38,921 | Glenshaw Glass (GMP) | Glenshaw, PA | 03/12/2001 | Glass Containers.
38,922 | Thomas And Betts (Co.) | St. Mathews, SC | 03/13/2001 | Emergency Lighting.
38,923 | Sunshine Precious Metal (Wkrs) | Kellogg, ID | 03/14/2001 | Concentrated Silver Ore.
38,924 | Lexington Fabrics (Co.) | Florence, AL | 03/12/2001 | Textiles, Apparel.
38,925 | National Steel Corp (Wkrs) | Portage, IN | 03/09/2001 | Steel.
38,926 | Procon Products (SMW) | Murfreesboro, TN | 03/01/2001 | Rotors for Pumps.
38,927 | Cascade Steel (USWA) | McMinnville, OR | 02/20/2001 | Steel Angles, Flats.
38,928 | Motorola, Inc. (Co.) | Harvard, IL | 02/14/2001 | Cellular Phones.
38,929 | Akzo Nobel Transportation (Co.) | Brownsville, TX | 03/19/2001 | Paint Products.
38,930 | Harvest Time, Inc. (UNITE) | New York, NY | 03/14/2001 | Ladies' Sportswear.
38,931 | I.C. Isaacs and Company (Co.) | Baltimore, MD | 03/16/2001 | T-Shirts, Jeans, Men's Polo Shirts.
38,932 | Johnson and Johnson Med (Wkrs) | El Paso, TX | 03/13/2001 | Disposable Surgical Products.
38,933 | Union Knitwear, Inc. (Co.) | Maynardville, TN | 03/14/2001 | T-Shirts, Blankets
38,934 | Williamson Dickie Mfg (Wkrs) | Eagle Pass, TX | 03/15/2001 | Work Jeas.
38,935 | Naturipe Berry Growers (IBT) | Watsonville, CA | 03/14/2001 | Process Strawberry Products.
38,936 | Fruit of The Loom (Co.) | Greenville, MS | 03/05/2001 | Textile-Bleaching, Dyeing, Cutting.
38,937 | Fruit of the Loom (Co.) | Osceloa, AR | 03/05/2001 | Men's, Ladies' Tee-Shirts and Underwear.
38,938 | Fruit of the Loom (Co.) | Winfield, AL | 03/05/2001 | Yarn-Spinning.
38,939 | Litton Network Access (Wkrs) | Roanoke, VA | 02/05/2001 | Network Systems.
38,940 | Mayfair Mills, (Wkrs) | Lincolnton, GA | 03/14/2001 | Yarn-Cotton and Blended.
38,941 | Motorguide Trolling (Wkrs) | Starkville, MS | 01/28/2001 | Electric Trolling Motors and Parts.
38,942 | ISP Minerals (Co.) | Pembine, WI | 03/14/2001 | Roofing Granules.
38,943 | Stant Manufacturing (UAW) | Connersville, IN | 03/09/2001 | Fuel and Radiator Caps.

[FR Doc. 01-9721 Filed 4-18-01; 8:45am]

BILLING CODE 4510-30-M